DEPARTMENT OF THE TREASURY

Submission for OMB Review; Comment Request

August 10, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 19, 2001 to be assured of consideration.

Internal Revenue Service (IRS)

OMB Number: 1545-0023.

Form Number: IRS Form 720.

Type of Review: Extension.

Title: Quarterly Federal Excise Tax Return.

Description: The information supplied on Form 720 is used by the IRS to determine the correct tax liability. Additionally, the data is reported by the IRS to Treasury so that funds may be transferred from the general revenue funds to the appropriate trust funds.

Respondents: Business or other for-profit, Individuals or households, Not-for-profit institution, Farms, Federal Government, State, Local or Tribal Government.

Estimated Number of Respondents/Recordkeepers: 50,000.

Estimated Burden Hours Per Respondent/Recordkeeper:

Form | Recordkeeping | Learning about the law or the form | Preparing and sending the form to the IRS
Form 720 | 23 hr., 53 min. | 1 hr., 49 min. | 4 hr., 40 min.
Schedule A | 1 hr., 54 min. |  | 1 min.
Schedule C Part I | 1 hr., 54 min. | 6 min. | 7 min.
Schedule C Part II | 22 hr., 28 min. | 6 min. | 28 min.
Schedule C Part III | 14 min. |  |
Form 6197 | 4 hr., 18 min. | 12 min. | 16 min.
Form 6627 | 5 hr., 1 min. | 6 min. | 11 min.

Frequency of Response: Quarterly.

Estimated Total Reporting/Recordkeeping Burden: 3,479,551 hours.

OMB Number: 1545-0245.

Form Number: IRS Form 6627.

Type of Review: Extension.

Title: Environmental Taxes.

Description: Form 6627 is attached to Form 720 to compute and collect tax on chemical substances, and ozone-depleting chemicals.

Respondents: Business or other for-profit, Individuals or households.

Estimated Number of Respondents/Recordkeepers: 1,610.

Estimated Burden Hours Per Respondent/Recordkeeper: 1 hour, 47 minutes.

Frequency of Response: Annually.

Estimated Total Reporting/Recordkeeping Burden: 5,174 hours.

OMB Number: 1545-1621.

Form Number: IRS Forms W-8BEN, W-8ECI, W-8EXP, and W-8IMY.

Type of Review: Extension.

Title: W-8BEN: Certificate of Foreign Status of Beneficial Owner for United States Tax Withholding;

W-8ECI: Certificate of Foreign Person's Claim From Withholding on Income Effectively Connected With the Conduct of a Trade or Business in the United States;

W-8EXP: Certificate of Foreign Government or Other Foreign Organization for United States Tax Withholding; and

W-8IMY: Certificate of Foreign Intermediary, Foreign Flow-Through Entity, or Certain U.S. Branches for United States Tax Withholding.

Description: Form W-8BEN is used for certain types of income to establish that the person is a foreign person, is the beneficial owner of the income for which Form W-8BEN is being provided and, if applicable, to claim a reduced rate of, or exemption from, withholding as a resident of a foreign country with which the United States has an income tax treaty.

Form W-8ECI is used to establish that the person is a foreign person, is the beneficial owner of the income for which Form W-8ECI is being provided, and to claim that the income is effectively connected with the conduct of a trade or business within the United States.

Form W-8EXP is given and, if applicable, to claim a reduced rate of, or exemption from, withholding.

Form W-8IMY is provided to a withholding agent or payer by a foreign intermediary, foreign partnership, and certain U.S. branches to make representations regarding the status of beneficial owners or transmit appropriate documentation to the withholding agent.

Respondents: Business or other for-profit, Individuals or households, Not-for-profit institutions.

Estimated Number of Respondents/Recordkeepers: 3,180,640.

Estimated Burden Hours Per Respondent/Recordkeeper:

Form | Recordkeeping | Learning about the law or the form | Preparing and sending the form to the IRS
W-8BEN | 5 hr., 58 min. | 3 hr., 46 min. | 4 hr., 2 min.
W-8ECI | 3 hr., 35 min. | 3 hr., 22 min. | 3 hr., 35 min.
W-8EXP | 7 hr., 10 min. | 5 hr., 28 min. | 5 hr., 49 min.
W-8IMY | 5 hr., 58 min. | 4 hr., 38 min. | 6 hr., 8 min.

Frequency of Response: Annually.

Estimated Total Reporting/Recordkeeping Burden: 43,280,135 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-20849 Filed 8-17-01; 8:45 am]

BILLING CODE 4830-01-P